OFFICE OF PERSONNEL MANAGEMENT

Excepted Service; March 2014

AGENCY: U.S. Office of Personnel Management (OPM).

ACTION: Notice.

SUMMARY: This notice identifies Schedule A, B, and C appointing authorities applicable to a single agency that were established or revoked from March 1, 2014, to March 31, 2014.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A authorities to report during March 2014.

Schedule B

No Schedule B authorities to report during March 2014.

Schedule C

The following Schedule C appointing authorities were approved during March 2014.

Agency name | Organization name | Position title | Authorization No. | Effective date
DEPARTMENT OF AGRICULTURE | Office of the Secretary | Confidential Assistant | DA140046 | 3/ 21/ 2014
DEPARTMENT OF COMMERCE | International Trade Administration | Deputy Director of Public Affairs | DC140063 | 3/7/2014
COMMODITY FUTURES TRADING COMMISSION | Office of the Chairperson | Attorney Advisor (General) | CT140003 | 3/14/2014
DEPARTMENT OF DEFENSE | Office of the Assistant Secretary of Defense (Homeland Defense and America's Security Affairs) | Special Assistant for Homeland Defense and Americas' Security Affairs | DD140047 | 3/5/2014
| Office of the Assistant Secretary of Defense (Asian and Pacific Security Affairs) | Special Assistant for South and Southeast Asia | DD140050 | 3/12/2014
| Washington Headquarters Services | Defense Fellow | DD140049 | 3/25/2014
DEPARTMENT OF THE ARMY | Office Assistant Secretary Army (Civil Works) | Special Assistant (Civil Works) | DW140011 | 3/13/2014
DEPARTMENT OF EDUCATION | Office of the Deputy Secretary | Confidential Assistant | DB140039 | 3/5/2014
| Office of Planning, Evaluation and Policy Development | Confidential Assistant | DB140044 | 3/6/2014
|  | Deputy Assistant Secretary for Planning and Policy Development | DB140048 | 3/6/2014
|  | Special Assistant | DB140052 | 3/13/2014
| Office of Elementary and Secondary Education | Chief of Staff | DB140049 | 3/6/2014
| Office of the Secretary | Special Assistant | DB140015 | 3/11/2014
| Office of Communications and Outreach | Assistant Press Secretary | DB140053 | 3/26/2014
|  | Deputy Assistant Secretary for State and Local Engagement | DB140054 | 3/27/2014
DEPARTMENT OF ENERGY | Assistant Secretary for Congressional and Intergovernmental Affairs | Senior Advisor | DE140044 | 3/5/2014
| Office of the Secretary | White House Liaison | DE140045 | 3/7/2014
| Assistant Secretary for Energy Efficiency and Renewable Energy | Chief of Staff | DE140040 | 3/10/2014
| Office of Public Affairs | Deputy Press Secretary | DE140043 | 3/11/2014
| Office of Management | Special Assistant | DE140039 | 3/13/2014
ENVIRONMENTAL PROTECTION AGENCY | Office of the Administrator | Deputy Press Secretary | EP140021 | 3/13/2014
EXPORT-IMPORT BANK | Office of the Chairman | Executive Secretary | EB140004 | 3/11/2014
| Office of Communications | Vice President of External Relations and Outreach | EB140005 | 3/18/2014
GENERAL SERVICES ADMINISTRATION | Pacific Rim Region | Special Assistant | GS140009 | 3/6/2014
DEPARTMENT OF HOMELAND SECURITY | U.S. Customs and Border Protection | Senior Advisor | DM140097 | 3/7/2014
|  | Advisor | DM140102 | 3/13/2014
| U.S. Immigration and Customs Enforcement | Advisor to the Commissioner | DM140098 | 3/07/2014
|  | Congressional Relations Director | DM140099 | 3/11/2014
| U.S. Citizenship and Immigration Services | Counselor | DM140100 | 3/11/2014
| Office of the Assistant Secretary for Policy | Director | DM140101 | 3/11/2014
| Office of the Assistant Secretary for Policy | Special Assistant | DM140105 | 3/14/2014
| Office of the Under Secretary for Science and Technology | Special Assistant for Science and Technology | DM140109 | 3/25/2014
| Office of the Chief of Staff | Director of Trips and Advance | DM140111 | 3/25/2014
| Federal Emergency Management Agency | Special Assistant | DM140112 | 3/25/2014
| Privacy Officer | Advisor to the Chief Privacy Officer | DM140113 | 3/26/2014
| Immediate Office of the Deputy Secretary | Special Assistant | DM140108 | 3/28/2014
DEPARTMENT OF HOUSING AND URBAN DEVELOPMENT | Office of Public Affairs | General Deputy Assistant Secretary for Public Affairs | DU140014 | 3/20/2014
DEPARTMENT OF THE INTERIOR | Bureau of Safety and Environmental Enforcement | Special Assistant | DI140021 | 3/25/2014
| Secretary's Immediate Office | Special Assistant (2) | DI140022 | 3/27/2014
|  |  | DI140023 | 3/27/2014
DEPARTMENT OF JUSTICE | Executive Office for United States Attorneys | Counsel | DJ140037 | 3/28/2014
DEPARTMENT OF LABOR | Office of the Secretary | Special Assistant | DL140034 | 3/28/2014
NATIONAL ENDOWMENT FOR THE ARTS | National Endowment for the Arts | Director of Public Affairs | NA140002 | 3/6/2014
|  | Congressional Liaison | NA140003 | 3/27/2014
OCCUPATIONAL SAFETY AND HEALTH REVIEW COMMISSION | Occupational Safety and Health Review Commission | Confidential Assistant | SH140001 | 3/26/2014
SMALL BUSINESS ADMINISTRATION | Office of Communications and Public Liaison | Senior Speechwriter | SB140012 | 3/21/2014
DEPARTMENT OF STATE | Bureau of Public Affairs | Staff Assistant | DS140065 | 3/5/2014
| Bureau of Western Hemisphere Affairs | Staff Assistant | DS140011 | 3/11/2014
| Bureau of Legislative Affairs | Legislative Management Officer | DS140067 | 3/11/2014
| Bureau of International Narcotics and Law Enforcement Affairs | Senior Advisor | DS140024 | 3/13/2014
| Office of the Under Secretary for Public Diplomacy and Public Affairs | Staff Assistant | DS140069 | 3/19/2014
DEPARTMENT OF THE TREASURY | Under Secretary for Terrorism and Financial Intelligence | Senior Policy Advisor | DY140047 | 3/6/2014
| Assistant Secretary for Financial Institutions | Senior Advisor | DY140053 | 3/10/2014
UNITED STATES INTERNATIONAL TRADE COMMISSION | Office of Commissioner Broadbent | Staff Assistant | TC140005 | 3/7/2014
DEPARTMENT OF VETERANS AFFAIRS | Office of the Secretary and Deputy | Special Assistant/ White House Liaison | DV140026 | 3/27/2014

The following Schedule C appointing authorities were revoked during March 2014.

Agency name | Organization name | Position Title | Authorization No. | Vacate date
COMMODITY FUTURES TRADING COMMISSION | Office of the Chairperson | Public Affairs Specialist (Speechwriter) | CT110003 | 3/13/2014
DEPARTMENT OF EDUCATION | Office of Innovation and Improvement | Confidential Assistant | DB120062 | 3/7/2014
| Office of Planning, Evaluation and Policy Development | Chief of Staff | DB100040 | 3/8/2014
| Special Assistant | DB100074 | 3/8/2014
| Office of Legislation and Congressional Affairs | Chief of Staff | DB120063 | 3/8/2014
| Office of the Deputy Secretary | Confidential Assistant | DB130052 | 3/14/2014
| Office of Vocational and Adult Education | Special Assistant | DB130010 | 3/22/2014
DEPARTMENT OF HOMELAND SECURITY | U.S. Citizenship and Immigration Services | Counselor to the Director | DM100341 | 3/13/2014
| Office of the Under Secretary for National Protection and Programs Directorate | Senior Advisor for Public Affairs | DM120086 | 3/22/2014
DEPARTMENT OF LABOR | Office of the Secretary | White House Liaison | DL130029 | 3/21/2014
DEPARTMENT OF TRANSPORTATION | Administrator | Director, Office of Governmental Affairs, Policy and Strategic Planning | DT100040 | 3/14/2014
ENVIRONMENTAL PROTECTION AGENCY | Office of the Assistant Administrator for Air and Radiation | Senior Counsel to the Assistant Administrator for Air and Radiation | EP100018 | 3/1/2014
OCCUPATIONAL SAFETY AND HEALTH REVIEW COMMISSION | Occupational Safety and Health Review Commission | Confidential Assistant to the Chairman | SH090007 | 3/7/2014

Authority: 5 U.S.C. 3301 and 3302; E.O. 10577, 3 CFR, 1954-1958 Comp., p. 218.

U.S. Office of Personnel Management.
Katherine Archuleta,
Director.

[FR Doc. 2014-11618 Filed 5-19-14; 8:45 am]

BILLING CODE 6325-39-P